DEPARTMENT OF JUSTICE

Office of Justice Programs

[OJP (OJJDP) Docket No. 1422]

Meeting of the Federal Advisory Committee on Juvenile Justice

AGENCY: Office of Juvenile Justice and Delinquency Prevention, Office of Justice Programs, Justice.

ACTION: Notice of meeting.

SUMMARY: The Office of Juvenile Justice and Delinquency Prevention is announcing the meeting of the Federal Advisory Committee on Juvenile Justice (FACJJ).

DATES: Monday, October 24, 2005, 8:30 a.m.-4:30 p.m., and Tuesday, October 25, 2005, 8:30 a.m.-12 p.m.

ADDRESSES: The meeting location is at the Sheraton Gunter Hotel San Antonio, 205 East Houston Street, San Antonio, Texas, telephone: (210) 227-3241.

FOR FURTHER INFORMATION CONTACT: Robin Delany-Shabazz, Designated Federal Official, OJJDP, Robin.Delany-Shabazz@usdoj.gov, or (202) 307-9963.

SUPPLEMENTARY INFORMATION: The Federal Advisory Committee on Juvenile Justice (FACJJ), was established, pursuant to Section 3(2)A, Federal Advisory Committee Act, 5 U.S.C.A. App.2., to carry out its advisory functions pursuant to the Juvenile Justice and Delinquency Prevention Act of 2002, 42 U.S.C. 5633. The FACJJ is composed of one representative from each State and territory. The FACJJ's duties include the following: (1) Reviewing Federal policies regarding juvenile justice and delinquency prevention; (2) advising the OJJDP Administrator with respect to particular functions and aspects of OJJDP; and (3) advising the President and Congress with regard to State perspectives on the operation of OJJDP and Federal legislation pertaining to juvenile justice and delinquency prevention. More information, including a member list, may be found at www.ojjdp.ncjrs.org/facjj/index.html.

The meeting agenda is as follows:

Monday, October 24, 2005

8:30 a.m.-9 a.m. Opening and welcome by the Administrator of OJJDP and Chair of the FACJJ (Open Sessions).

9 a.m.-12 p.m. Discussion and Deliberation on FACJJ recommendations to the President, Congress, and the Administrator of OJJDP and discussion of implications of questionnaire results, with respect to application of core values (Open Sessions).

12 p.m.-1:30 p.m. Subcommittee meetings (Closed Sessions).

1:30 p.m.-2:30 p.m. Discussion of application core values, continued (Open Sessions).

2:30 p.m.-2:45 p.m. Break

2:45 p.m.-4:30 p.m. Reports from the committees of FACJJ and close (Open Sessions).

Tuesday, October 25, 2005

8:30 a.m.-12 p.m. Presentations on immigration issues pertaining to Texas and other bordering States, and the impact on juvenile justice operations (Open Sessions).

Members of the public who wish to attend open sessions should register by sending an e-mail with their name, affiliation, address, telephone number, and a list of sessions they plan to attend to facjj@jjrc.org. If e-mail is not available, call Daryel Dunston at (301) 519-6473. [Note: this is not a toll-free number.] Because space is limited, notification should be sent by Tuesday, October 14, 2005.

Written Comments: Interested parties may submit written comments by Tuesday, October 14, 2005, to Robin Delany-Shabazz, Designated Federal Official, OJJDP, at Robin.Delany-Shabazz@usdoj.gov, or by fax to 202-354-4063. [Note: this is not a toll-free number.] No oral presentations will be permitted at the meeting.

Marilyn Roberts,
Deputy Administrator, Office of Juvenile Justice and Delinquency Prevention.

[FR Doc. 05-19918 Filed 10-4-05; 8:45 am]

BILLING CODE 4410-18-P